DEPARTMENT OF COMMERCE

International Trade Administration

(A-570-863)

Honey from the People's Republic of China: Notice of Extension of Time Limit for the Preliminary Results of New Shipper Review

AGENCY: Import Administration, International Trade Administration, Department of Commerce.

EFFECTIVE DATE: July 3, 2006.

FOR FURTHER INFORMATION CONTACT: Helen Kramer or Patrick Edwards, AD/CVD Operations, Office 7, Import Administration, International Trade Administration, U.S. Department of Commerce, 14th Street and Constitution Avenue, NW, Washington, DC 20230; telephone: (202) 482-0405 or (202) 482-8029, respectively.

SUPPLEMENTARY INFORMATION:

Background

On January 25, 2006, the Department initiated new shipper reviews of honey from the People's Republic of China in accordance with section 751(a)(2)(B) of the Tariff Act of 1930, as amended (the Act). See Honey from the People's Republic of China: Initiation of New Shipper Antidumping Duty Review, 71 FR 5051 (January 31, 2006). The reviews were initiated based on timely requests received from Inner Mongolia Altin Bee-Keeping Co., Ltd., Dongtai Peak Honey Industry Co., Ltd., Qinhuangdao Municipal Dafeng Industrial Co., Ltd., and Tianjin Eulia Honey Co. Ltd, in accordance with 19 CFR 351.214(c). The preliminary results are currently due no later than July 24, 2006.

Extension of Time Limits for Preliminary Results

Section 751(a)(2)(B)(iv) of the Act requires the Department to issue the preliminary results of a new shipper review within 180 days after the date on which the new shipper review was initiated. The Department may, however, extend the deadline for completion of the preliminary results of a new shipper review to 300 days if it determines that the case is extraordinarily complicated. See section 751(a)(2)(B)(iv) of the Act, and 19 CFR 351.214(i)(2).

The Department has determined that it is not practicable to complete this review within the current time limit due to complex issues in the case and the late verification schedule. Accordingly, the Department is extending the time limit for the completion of the preliminary results until November 21, 2006, which is the first business day 300 days from the date on which this new shipper review was initiated, in accordance with section 751(a)(2)(B)(iv) of the Act and 19 CFR 351.214(i)(2). The final results, in turn, will be due 90 days after the date of issuance of the preliminary results, unless extended.

We are issuing and publishing this notice in accordance with sections 751(a)(1) and 777(i)(1) of the Act.

Dated: June 21, 2006.
Stephen J. Claeys,
Deputy Assistant Secretary for Import Administration.

[FR Doc. E6-10376 Filed 6-30-06; 8:45 am]

BILLING CODE 3510-DS-S